DEPARTMENT OF TRANSPORTATION

Federal Railroad Administration

[Docket No. FRA-2024-0126]

CSX Transportation, Inc. Petition for Approval of Product Safety Plan

AGENCY: Federal Railroad Administration (FRA), Department of Transportation (DOT).

ACTION: Notice of availability and request for comments.

SUMMARY: This document provides the public with notice that, on November 11, 2024, CSX Transportation, Inc. (CSX) submitted a petition for FRA approval of its Product Safety Plan (PSP) for the Trip Optimizer Air Brake Control product (also referred to as “TO Air Brake Control” or “Air Brake Control”). As this petition involves a railroad's PSP, FRA is publishing this notice and inviting public comment on the document.

DATES: Written comments must be received on or before March 17, 2025. FRA will consider comments filed after this date to the extent practicable.

ADDRESSES: Comments: Comments related to this notice may be submitted by going to https://www.regulations.gov and following the online instructions for submitting comments.

Instructions: All submissions must include the agency name and docket number (FRA-2024-0126). Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL-14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: Gabe Neal, Staff Director, Signal, Train Control, and Crossings Division, telephone: 816-516-7168, email: Gabe.Neal@dot.gov.

SUPPLEMENTARY INFORMATION: In accordance with part 236 of title 49 of the Code of Federal Regulations, this document provides the public notice that CSX has petitioned FRA for approval of its PSP for the Trip Optimizer Air Brake Control product (also referred to as “TO Air Brake Control” or “Air Brake Control”). FRA has assigned the petition Docket Number FRA-2024-0126. CSX's PSP has been placed in this docket and is available for public inspection and comment.

CSX states that the Trip Optimizer product is an energy management system installed on locomotives that is used by the train's operator to improve the energy efficiency of train operations. CSX goes on to state that TO Air Brake Control is an expansion of the Trip Optimizer product that was initially deployed by CSX starting in 2008. CSX indicates that TO Air Brake Control functionality is designed to increase the number of miles of automatic operation and thereby decrease fuel consumption and the emissions output from all locomotives in the train. CSX also indicates that a train equipped with TO Air Brake Control will continue to operate under the supervision of a qualified train crew, who are required to assume control of the train and operate in manual mode, when necessary, and to retain overall responsibility for the safe operation of the train.

Interested parties are invited to comment on CSX's PSP by submitting comments to the electronic docket. Please refer to the ADDRESSES section above for guidance on how to submit comments to the electronic docket.

Issued in Washington, DC.
John Karl Alexy,
Associate Administrator for Railroad Safety, Chief Safety Officer.

[FR Doc. 2025-00862 Filed 1-15-25; 8:45 am]

BILLING CODE 4910-06-P